DEPARTMENT OF TRANSPORTATION

Coast Guard

33 CFR Parts 6 and 125

[USCG-2002-12917]

Maritime Identification Credentials

AGENCY: Coast Guard, DOT.

ACTION: Clarification of regulation.

SUMMARY: The Coast Guard brings to the public's attention, clarification of the identification credentials that would be acceptable to the Commandant under 33 CFR 125.09(f), for access to waterfront facilities and to port and harbor areas, including the vessels and harbor craft in them. The Coast Guard has authority and the rules in place for this measure. As specified in 33 CFR 6.10-5, 125.15, and 125.53, such credentials—in addition to those acceptable under 33 CFR 125.09(a)-(e)—can, at a minimum, be laminated (or otherwise secured against tampering), contain the full name and a current photograph of the person, and bear the name of the issuing authority.

DATES: This clarification is effective on September 6, 2002.

FOR FURTHER INFORMATION CONTACT: For questions on this notice, call Mr. Gerald Miante, Program Manager, Maritime Personnel Qualification Division, Coast Guard Headquarters, at (202) 267-0229. For questions on viewing materials already in the docket, call Ms. Dorothy Beard, Chief, Dockets, Department of Transportation, at 202-366-5149.

SUPPLEMENTARY INFORMATION:

Public Meetings

Apublic meeting concerning initiatives toward international maritime security was held on January 3, 2002 (see Federal Register of December 14, 2001 [66 FR 64898]), at Coast Guard Headquarters, Washington, DC. A workshop concerning National Maritime Security was held on January 28-29, 2002 (see Federal Register of January 16, 2002 [66 FR 2271]), in Washington, DC, to discuss issues of domestic maritime security.

We are not receiving comments in response to this document because it simply clarifies existing requirements. You may see materials from the meeting and workshop, including our responses to comments we did receive, on the Internet at http://dms.dot.gov under docket number USCG-2002-11137.

Background

On September 11, 2001, acts of terrorism were committed against the United States in New York, Virginia, and Pennsylvania. In light of these attacks, the security of all modes of transportation is being reevaluated. Under the provisions of Title 33, Code of Federal Regulations (33 CFR), parts 6 and 125, the Coast Guard has the authority and the rules in place to require identification credentials for access to waterfront facilities and to port and harbor areas, including vessels and harbor craft in them. This notice serves to announce a clarification of these rules and serves to direct the public's attention to 33 CFR 125.09(f) authorizing the Commandant of the Coast Guard to require approved identification credentials.

In the week after September 11, the Secretary of the Department of Transportation (SECDOT) established the National Infrastructure Security Committee (NISC) to evaluate security in the surface modes of transportation and to provide recommendations for improvement. To reach that goal, the NISC created six “Direct-Action Groups” (DAGs) to generally examine each mode of transportation; and, pursuant to their initial studies, it established a seventh DAG, the Credentialing Direct Action Group (CDAG), to study the issue of a National Transportation Workers' Identification Card (TWIC) for all transportation workers and other persons who require access to secure areas at transportation facilities. Pending legislation has pointed to a need for such a card. Further, the Transportation Security Administration (TSA), newly formed within the Department of Transportation (DOT) itself, formed “Go-Teams”—short-term, highly focused working groups that are concentrating on various specific technologies and credentialing issues, such as card architecture, biometrics, and “smart cards.” More information about credentialing is available on the website of TSA at http://www.tsa.gov/.

The goal of the CDAG is to fashion a nationwide solution to the problem of identifying workers that verifies their identity, validates their background information, assists transportation facilities in managing their security risks, and accounts for access of authorized personnel to transportation facilities and activities. The CDAG is seeking to identify a solution that would—

• Be fully inter-modal;

• Be built on existing technology, as well as on governmental and commercial business processes and infrastructure, as much as possible;

• Minimize the need for workers and other people to carry multiple ID cards;

• Ensure due protection of a card holder's privacy;

• Meet Congressional mandates as both expressed in current legislation and supported in pending legislation;

• Meet standards of the International Maritime Organization (IMO); and

• Be scalable and expandable to address future access-enabling technologies.

In terms developed by the workshop, the solution would be Secure, Acceptable, Reliable, and Uniform.

The events of September 11 heightened awareness of waterfront vulnerability and the need for better control. This is a very dynamic area in which new risks are perceived and new technologies are available to address them. The Coast Guard intends to address those risks initially by resuming enforcement of existing rules, such as 33 CFR Parts 6 and 125, until DOT, Congress, and the CDAG provide new guidance and direction for incorporating more effective, commerce-friendly technology.

The Coast Guard is continually participating in the CDAG's efforts and awaits its recommendations, as well as DOT's decision on the TWIC, to avoid proceeding in any direction that may be in conflict with the decision ultimately chosen by the Department. We recognize the necessity of gathering information so that we will be prepared to carry out our commitment to enhance maritime security in a timely manner. We also recognize the imperative of controlling access while we achieve a longer-term, comprehensive means of security. At this time we are not requesting that comments be submitted addressing this notice or its subject. However, before any new rulemaking the public will have the opportunity to comment.

Purpose

This document serves to bring to the attention of the public clarification of the identification credentials deemed acceptable to the Commandant under 33 CFR 125.09(f). Furthermore, as stated in 33 CFR 6.10-5, and in 33 CFR 125.09, 125.15, and 125.53, the Coast Guard may, from time to time, prevent individuals without the proper identification credentials from gaining access to waterfront facilities, areas within the port and harbor, and on vessels and harbor craft. From September 6, 2002, every person (including passengers) entering a waterfront facility, or embarking on or disembarking from a vessel or a harbor craft, may use credentials that are laminated (or otherwise protected against tampering), contain the person's full name and a current photograph, and bear the name of the issuing authority to meet the requirements of 33 CFR 6.10-5, 33 CFR 125.15, and 125.53.

Because these credentials are for use essentially in the maritime realm, they bear the narrow label of “maritime credentials.” However, since the people carrying them will be representative of the inter-modal community (shipping, trucking, and rail employees, as well as longshoremen and mariners), the credentials will not apply solely to personnel in the maritime realm. When the Department of Transportation makes a decision concerning the TWIC, the Coast Guard will reevaluate this action and determine how best to harmonize these requirements with any requirements by the Department of Transportation.

At this time, we must limit identification credentials “satisfactory to the Commandant” [33 CFR 6.10-5] to those issued by a Federal, State, or local authority in the United States acceptable to the Captain of the Port (COTP). As Port Security Plans are developed, they will detail acceptable issuing authorities. Acceptable credentials include:

• A military identification card;

• A badge for a Federal employee such as DOT, DOD, FBI, CIA;

• A driver's license or official identification card issued by a Department of Motor Vehicles or a Motor-Vehicle Administration within the U.S.;

• A merchant mariner's document issued by the Coast Guard;

• A valid passport;

• A local-law enforcement credential;

• An identification credential issued by a State or local port authority; and

• An identification credential issued by a company, union, or trade association.

Signed: July 30, 2002.
Paul J. Pluta,
Rear Admiral, U.S. Coast Guard, Assistant Commandant for Marine Safety, Security and Environmental Protection.

[FR Doc. 02-19844 Filed 8-6-02; 8:45 am]

BILLING CODE 4910-15-P